DEPARTMENT OF AGRICULTURE

Forest Service

Upper Desolation Vegetation Recovery Projects Umatilla National Forest, Grant County, OR

AGENCY: Forest Service, USDA.

ACTION: Notice of intent to prepare an environmental impact statement.

SUMMARY: The USDA Forest Service will prepare an environmental impact statement (EIS) on a proposed action to implement vegetative recovery projects, designed to restore forest stand structure and composition, within the subwatersheds of the Desolation Creek Watershed and adjacent subwatersheds of surrounding watersheds which were affected by the Bull and Summit Fires of 1996. The project area is located on the North Fork John Day Ranger District, approximately 25 air miles southeast of Ukiah, Oregon.

Proposed project activities consist of planting forest and riparian vegetation; fuels treatments to establish a more natural mosaic of fuel types across the landscape; hydrologic stability projects (road obliteration and road reconstruction); reduction of hazards along open roads; and restoration of forest stand structure and composition through precommercial thinning, commercial thinning, and salvage of timber damaged or killed in the fires. The proposed action is designed to prevent additional degradation of watershed and forest health, accelerate movement toward achieving Forest Plan goals and an ecologically sustainable and resilient system, and provide some economic return to local economies. The proposed projects will be in compliance with the 1990 Land and Resource Management Plan FEIS for the Umatilla National Forest, as amended, which provides overall guidance for management of this area.

DATE: Written comments concerning the scope of the analysis should be received on or before March 13, 2000.

ADDRESS: Send written comments and suggestions to the Responsible Official, Craig Smith-Dixon, North Fork John Day District Ranger, P.O. Box 158, Ukiah, OR 97880.

FOR FURTHER INFORMATION CONTACT: Tim Davis, Project Team Leader, North Fork John Day Ranger District, Phone: (541) 427-3231.

SUPPLEMENTARY INFORMATION: The decision area contains approximately 59,700 acres with the Umatilla National Forest in Grant County, Oregon. It includes subwatersheds that were affected by the Bull and Summit Fires of 1996. The Bull Fire burned approximately 8,300 acres, and the Summit Fire burned approximately 8,000 acres on the Umatilla National Forest. Affected subwatersheds include those in the upper part of the Desolation Creek Watershed, and those in the adjacent North Fork John Day River and Granite Creek Watersheds. The legal description of the decision area is as follows: T.7S. R.33 and 34E., T.8S. R.33 and 34E., T.9S. R.33 and 34E., and T.10S. R.34E., W.M. surveyed. All proposed activities are outside the boundaries of any roadless of wilderness areas.

Originally, two separate analyses were proposed for salvage and restoration projects within the Bull and Summit Fire areas. These were: Bull Fire Restoration Project EA and the Olive Salvage CE. In January 1998, the Big Tower Fire Recovery Projects Decision Notice and Environmental Assessment was challenged in court. This analysis was concerned with the salvage and restoration of the 1996 Tower Fire. The outcome of this litigation was that the U.S. 9th Circuit Court of Appeals instructed the Forest Service to conduct an Environmental Impact Statement (EIS) for any further projects within the Tower Fire area. Based on this ruling, the North Fork John Day Ranger District determined that an EIS would be the most appropriate environmental analysis to conduct for restoration efforts on the Bull and Summit Fires.

Planting projects include reforestation in areas proposed for salvage harvest of fire damaged and killed timber, some areas proposed for fuels treatments, previously planted areas burned in the fires, and riparian areas affected by the fires. Fuels treatments could included broadcasting burning, piling and burning, jackpot burning, or mechanical slash treatments on harvested and precommercially thinned areas; as well as cutting, slashing, and burning stands of non-merchantable lodgepole pine killed in the fires. Proposed hydrologic stability projects include 1.5 miles of road obliteration and 7.0 miles of road reconstruction. Roadside hazards would be removed from along approximately 3.0 miles of Forest Road 1010. Stand structure and composition treatments include approximately 1050 acres of salvage harvest, 490 acres of commercial thinning, and 330 acres of precommercial thinning. Approximately 1.1 miles of temporary road construction is proposed to access timber harvest areas (all temporary roads would be obliterated following completion of sale activities).

An estimated 7.3 million board feet of timber would be commercially harvested, using ground based harvesting systems (tractor and harvested/forwarder). Proposed silvicultural treatments are as follows:

Precommercial Thinning: Saplings (generally up to 7 inch dbh) would be thinned to a tree per acre variable spacing to promote growth and provide a more sustainable species composition.

Commercial Thinning: Stand densities would be reduced to a residual square foot of basal area per acre based on recommended stocking levels appropriate for the plant association to restore a more ecologically sustainable structure and species composition. All stands would remain fully stocked upon completion of harvest activities.

Salvage Harvest: Timber damaged or killed in the fires would be removed to facilitate reforestation of these areas and reduce the build-up of fuels. Harvested areas would be reforested with an ecologically sustainable species composition.

Activities which would occur concurrently or in association with timber harvest include subsoiling to mitigate soil compaction, waterbarring, erosion control seeding of skid trails and landings to restore soil productivity, burning of some slash, and treatment of noxious weeds.

Preliminary issues include: effects of proposed activities on water quality; effects of proposed activities on fish and habitat and aquatic Threatened, Endangered, and Sensitive (TES) species; effects of proposed activities on lynx; and ability of proposed activities to restore historic vegetation composition, structure, and pattern.

The Forest Service will consider a full range of alternatives, including a “no-action” alternative in which none of the activities proposed above would be implemented. Based on the issues gathered through scooping, the action alternatives will vary in (1) the number, type and location of projects, (2) the silvicultural and post-harvest treatments prescribed, and (3) the amount and location of harvest and thinning. Tentative action alternatives are: the proposed action, a modified proposed action which only treats fire affected stands, and an alternative which excludes any commercial harvest.

Public participation will be especially important at several points during the analysis, beginning with the scooping process (40 CFR 1501.7). Initial scoping began with the project listing in the 2000 Winter Edition of the Umatilla National Forest's Schedule of Proposed Activities. This environmental analysis and decision making process will enable additional interested and affected people to participate and contribute to the final decision. The public is encouraged to take part in the process and is encouraged to visit with Forest Service officials at any time during the analysis and prior to the decision. The Forest Service will be seeking information, comments, and assistance from Federal, State, local agencies, and other individuals or organizations that may be interested in, or affected by the proposal. This input will be used in preparation of the Draft EIS. The scoping process includes:

1. Identifying potential issues.

2. Identifying major issues to be analyzed in depth.

3. Identifying issues which have been covered by a relevant previous environmental analysis.

4. Considering additional alternatives based on themes which will be derived from issues recognized during scoping activities.

5. Identifying potential environmental effects of this project and alternatives (i.e. direct, indirect, and cumulative effects and connected actions).

The Draft EIS is expected to be filed with the Environmental Protection Agency (EPA) and to be available to the public for review by April, 2000. At that time, the EPA will publish a Notice of Availability of the Draft EIS in the Federal Register. The comment period on the Draft EIS will be 45 days from the date the EPA publishes the Notice of Availability in the Federal Register. It is important that those interested in the management of the Umatilla National Forest participate at that time.

The Final EIS is scheduled to be completed by June, 2000. In the Final EIS, the Forest Service is required to respond to comments and responses received during the comment period that pertain to the environmental consequences discussed in the Draft EIS and applicable laws, regulations, and policies considered in making a decision regarding the proposal.

The Forest Service believes it is important to give reviewers notice, at this early stage, of several court rulings related to public participation in the environmental review process. First, reviewers of Draft EIS's must structure their participation in the environmental review of the proposal so that it is meaningful and alerts the agency to the reviewer's position and contentions. Vermont Yankee Nuclear Power Corp v. NRDC, 435 U.S. 519, 553 (1978). Also, environmental objections that could be raised at the draft environmental impact statement stage but that are not raised until completion of the final environmental impact statement may be waived or dismissed by the courts. City of Angoon v. Hodel, 803 f. 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider and respond to them in the final environmental impact statement.

To assist the Forest Service in identifying and considering issues and concerns on the proposed action, comments on the draft environmental impact statement should be as specific as possible. It is also helpful if comments refer to specific pages or chapters of the draft statement. Comments may also address the adequacy of the draft environmental impact statement or merits of the alternatives formulated and discussed in the statement. (Reviewers may wish to refer to the Council on Environmental Quality Regulations for implementing the procedural provisions of the National Environmental Policy Act at 40 CFR 1503.3 in addressing these points).

The Forest Service is the lead agency. Craig Smith-Dixon, District Ranger, is the Responsible Official. As the Responsible Official, he will decide which, if any, of the proposed projects will be implemented. He will document the decision and reasons for the decision in the Record of Decision. That decision will be subject to Forest Service Appeal Regulations (36 CFR part 215).

Dated: February 1, 2000.
Craig Smith-Dixon,
District Ranger.

[FR Doc. 00-3056 Filed 2-9-00; 8:45 am]

BILLING CODE 3410-11-M